DEPARTMENT OF THE INTERIOR

Bureau of Reclamation

[N12-1852-7904-600-00-0-0-2, 2030000]

Notice of Availability of the Draft Environmental Impact Statement and Notice of Public Workshops and Hearings for the Shasta Lake Water Resources Investigation, Shasta and Tehama Counties, California

AGENCY: Bureau of Reclamation, Interior.

ACTION: Notice.

SUMMARY: The Bureau of Reclamation has made available for public review and comment the Draft Environmental Impact Statement (DEIS) for the Shasta Lake Water Resources Investigation (SLWRI). The purpose of the proposed action is to improve operational flexibility of the Sacramento-San Joaquin Delta watershed system by modifying the existing Shasta Dam and Reservoir to meet specified objectives. Primary objectives are to increase the survival of anadromous fish populations in the upper Sacramento River and increase water supply and water supply reliability. Secondary planning objectives are to: conserve, restore, and enhance ecosystem resources in the primary study area; reduce flood damage along the Sacramento River; develop additional hydropower generation capabilities; maintain and increase recreation opportunities; and maintain or improve water quality conditions in the Sacramento River downstream from Shasta Dam and in the Sacramento-San Joaquin Delta.

DATES: Submit written comments on the DEIS on or before September 30, 2013.

Three public workshops and three public hearings will be held. See SUPPLEMENTARY INFORMATION section for workshop and hearing dates.

ADDRESSES: Please send written comments to Ms. Katrina Chow, Bureau of Reclamation, 2800 Cottage Way, Sacramento, CA 95825, or by email to bor-mpr- slwri@usbr.gov. Written comments also may be submitted during the public hearings. Please see Supplementary Information section for workshop and hearing addresses.

FOR FURTHER INFORMATION CONTACT: Ms. Katrina Chow, Reclamation Project Manager, at the above address, at 916-978-5067, TDD 916-978-5608; via fax at 916-978-5094; or by email to bor-mpr-slwri@usbr.gov. Further information on the SLWRI can be found on the SLWRI Web site, at www.usbr.gov/mp/slwri.

SUPPLEMENTARY INFORMATION: Shasta Dam was completed in 1945 to serve multiple purposes, including flood control; water supply for agricultural, municipal and industrial, and environmental purposes; and hydropower generation. In addition, extensive recreational opportunities in and around Shasta Lake significantly contribute to the regional economy.

Authorization for the investigation comes from Public Law (Pub. L.) 96-375, 1980, directing the Secretary of the Interior to engage in feasibility studies related to enlarging Shasta Dam and Reservoir. Related legislation includes Title 34 of Public Law 102-575 (the Central Valley Project Improvement Act) and Public Law 108-361, the CALFED Bay-Delta Authorization Act. In addition, enlargement of Shasta Dam was identified in the CALFED Programmatic Environmental Impact Report/Statement and Record of Decision.

In February 2012, the Bureau of Reclamation (Reclamation) released a Draft Feasibility Report and Preliminary DEIS for the SLWRI to inform the public, stakeholders, and decision makers about the results of the SLWRI at that time. The Draft Feasibility Report describes the water resources needs and opportunities, purpose of the proposed action, planning objectives and constraints, the plan formulation and evaluation process and criteria, and the potential effects, costs, and benefits of five action alternatives and the No Action Alternative.

After release of the DEIS for public review and comment, the Final Feasibility Report and EIS will be prepared and processed together to support decision making for any related future recommendations, approvals, or authorizations that may result. The following planning objectives apply to the proposed action/project modification.

Planning Objectives

• Primary Planning Objectives. (1) increase the survival of anadromous fish populations in the Sacramento River, primarily upstream from the Red Bluff Diversion Dam, and (2) increase water supply and water supply reliability for agricultural, municipal and industrial, and environmental purposes to help meet future water demands, with a focus on enlarging Shasta Dam and Reservoir. Action alternatives were formulated to address these primary planning objectives.

• Secondary Planning Objectives. The following actions, operations, or features are included to the extent possible and consistent with the primary planning objectives: (1) Conserve, restore, and enhance ecosystem resources in the Shasta Lake area and along the upper Sacramento River, (2) reduce flood damage along the Sacramento River, (3) develop additional hydropower generation capabilities at Shasta Dam, (4) maintain and increase recreation opportunities at Shasta Lake, and (5) maintain or improve water quality conditions in the Sacramento River downstream from Shasta Dam and in the Sacramento-San Joaquin Delta.

Draft Environmental Impact Statement

The DEIS documents a reasonable range of alternatives and evaluates the potential direct, indirect, and cumulative environmental effects of alternative plans. Evaluation of six alternatives is documented in the DEIS, including a No-Action Alternative and five action alternatives. The DEIS displays the potential project-related impacts, including the effects of project construction and operation on the following resource areas: geology, air quality, hydrology, water quality, noise, hazards and hazardous materials, important agricultural lands, fish, vegetation and wildlife, cultural resources, Indian Trust Assets, socioeconomics, land use, recreation, visual resources, traffic and circulation, utilities, public services, power and energy, environmental justice, and wild and scenic rivers.

Potential project-related impacts include the construction-related effects of the dam enlargement, reservoir area relocations, and other alternative features; water operations-related effects within the reservoir area (e.g., including additional inundation areas); and associated effects to operations of other Central Valley Project and State Water Project facilities. Project operations may directly or indirectly affect the resources of the Sacramento River, its tributaries, the San Joaquin River, its tributaries, and the Sacramento-San Joaquin Delta. The DEIS also evaluates potential growth-inducing impacts for the Central Valley Project and State Water Project water service areas. Potential cumulative effects associated with reasonably foreseeable actions are also evaluated for each resource area.

Copies of the DEIS are available for public review at the following locations:

• Bureau of Reclamation, Regional Library, 2800 Cottage Way, Sacramento, CA 95825

• Bureau of Reclamation, Northern California Area Office, 16349 Shasta Dam Boulevard, Shasta Lake, CA 96019

• Natural Resources Library, Department of the Interior, 1849 C Street NW., Main Interior Building, Washington, DC 20240

• Shasta County Main Library, 1855 Shasta Street, Redding, CA 96001

Copies of the DEIS are also available on-line via the SLWRI Web site, at: www.usbr.gov/mp/slwri.

Public Workshops and Hearings

Reclamation will hold three public workshops to provide an overview of the project and allow public comment and discussion:

• Tuesday, July 16, 2013, 6:00-8:00 p.m., Holiday Inn Hotel, Palomino Room, 1900 Hilltop Drive, Redding, California 96002.

• Wednesday, July 17, 2013, 1:00-3:00 p.m., Cal Expo Quality Inn Hotel & Suites, 1413 Howe Avenue, Sacramento, California, 95825.

• Thursday, July 18, 2013, 6:00-8:00 p.m., Merced County Fairgrounds, Germino Building, 403 F Street, Los Banos, California, 93635.

Reclamation will also hold three public hearings to receive oral or written comments on the DEIS:

• Tuesday, September 10, 2013, 6:00-8:00 p.m., Holiday Inn Hotel, Palomino Room, 1900 Hilltop Drive, Redding, California 96002.

• Wednesday, September 11, 2013, 1:00-3:00 p.m., Cal Expo Quality Inn Hotel & Suites, 1413 Howe Avenue, Sacramento, California, 95825.

• Thursday, September 12, 2013, 6:00-8:00 p.m., Merced County Fairgrounds, Germino Building, 403 F Street, Los Banos, California, 93635.

Special Assistance for Public Workshops and Hearings

If special assistance is required to participate in the above public workshops and hearings, please contact Ms. Katrina Chow at 916-978-5067, or by email at kchow@usbr.gov; or Mr. Louis Moore at 916-978-5106, or by email at wmoore@usbr.gov. Please notify Ms. Chow or Mr. Moore as far in advance as possible to enable Reclamation to secure the needed services. If a request cannot be honored, the requestor will be notified. A telephone device for the hearing impaired (TDD) is available at 916-978-5608.

Public Disclosure

Before including your address, phone number, email address, or other personal identifying information in your comment, you should be aware that your entire comment—including your personal identifying information—may be made publicly available at any time. While you can ask us in your comment to withhold your personal identifying information from public review, we cannot guarantee that we will be able to do so.

Dated: May 30, 2013.
Pablo R. Arroyave,
Deputy Regional Director, Mid-Pacific Region.

[FR Doc. 2013-15659 Filed 6-28-13; 8:45 am]

BILLING CODE 4310-MN-P